Proclamation 9613 of May 19, 2017

National Safe Boating Week, 2017

By the President of the United States of America

A Proclamation

As Memorial Day approaches and our summer season arrives, it is important for Americans of all ages to learn about safety on the water. During National Safe Boating Week, the U.S. Coast Guard and its Federal, State, and local safe boating partners encourage all boaters to explore and enjoy America's beautiful waters responsibly.

Safe boating begins with preparation. The Coast Guard estimates that human error accounts for 70 percent of all boating accidents and that life jackets could prevent more than 80 percent of boating fatalities. Through basic boating safety procedures—carrying lifesaving emergency distress and communications equipment, wearing life jackets, attending safe boating courses, participating in free boat safety checks, and staying sober when navigating—we can help ensure boaters on America's coastal, inland, and offshore waters stay safe throughout the season.

America's diverse waterways are waiting to be explored. But before enjoying a day on the water, Americans should take time this week to familiarize themselves with safe boating practices so that everyone makes it home unharmed.

In recognition of the importance of safe boating practices, the Congress, by joint resolution approved June 4, 1958 (36 U.S.C. 131), as amended, has authorized and requested the President to proclaim annually the 7-day period before Memorial Day weekend as “National Safe Boating Week.”

NOW, THEREFORE, I, DONALD J. TRUMP, President of the United States of America, do hereby proclaim May 21 through May 27, 2017, as National Safe Boating Week. I encourage all Americans who participate in boating activities to observe this occasion by learning more about safe boating practices and taking advantage of boating safety education opportunities. I also encourage the Governors of the States and Territories, and appropriate officials of all units of government, to join me in encouraging boating safety through events and activities.

IN WITNESS WHEREOF, I have hereunto set my hand this nineteenth day of May, in the year of our Lord two thousand seventeen, and of the Independence of the United States of America the two hundred and forty-first.

[FR Doc. 2017-10847

Filed 5-23-17; 11:15 am]

Billing code 3295-F7-P